DEPARTMENT OF COMMERCE

National Oceanic and Atmospheric Administration

[RTID 0648-XA828]

Mid-Atlantic Fishery Management Council; Public Meeting

AGENCY: National Marine Fisheries Service (NMFS), National Oceanic and Atmospheric Administration (NOAA), Commerce.

ACTION: Notice; public meeting.

SUMMARY: The Mid-Atlantic Fishery Management Council (Council) will hold a meeting of its River Herring and Shad (RH/S) Advisory Panel (AP) via webinar.

DATES: The meeting will be held on Monday, February 8, 2021, from 1 p.m. to 4 p.m. See SUPPLEMENTARY INFORMATION below for agenda details.

ADDRESSES: The meeting will be held via online webinar, with connection information available via the Council's website at www.mafmc.org.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of the meeting is gather AP input on several RH/S white papers being developed by Council staff. Briefing materials will be posted to the Council's website at www.mafmc.org.

Special Accommodations

The meeting is physically accessible to people with disabilities. Requests for sign language interpretation or other auxiliary aid should be directed to Kathy Collins, (302) 526-5253, at least 5 days prior to any meeting date.

Authority: 16 U.S.C. 1801 et seq.

Dated: January 25, 2021.
Rey Israel Marquez,
Acting Deputy Director, Office of Sustainable Fisheries, National Marine Fisheries Service.

[FR Doc. 2021-01945 Filed 1-28-21; 8:45 am]

BILLING CODE 3510-22-P